DEPARTMENT OF ENERGY

Federal Energy Regulatory Commission

Combined Notice of Filings #2

Take notice that the Commission received the following electric corporate filings:

Docket Numbers: EC17-119-000.

Applicants: Drift Sand Wind Project, LLC.

Description: Amendment to May 18, 2017 Application Under Section 203 of the Federal Power Act and Request for Shortened Notice Period of Drift Sand Wind Project, LLC.

Filed Date: 5/22/17.

Accession Number: 20170522-5192.

Comments Due: 5 p.m. ET 6/8/17.

Take notice that the Commission received the following electric rate filings:

Docket Numbers: ER12-540-007; ER10-1346-006; ER10-1348-006; ER12-539-007.

Applicants: APDC, Inc., Atlantic Power Energy Services (US) LLC, ManChief Power Company LLC, Frederickson Power L.P.

Description: Supplement to December 21, 2016 Triennial market power update for Northwest region of APDC, Inc., et. al.

Filed Date: 6/7/17.

Accession Number: 20170607-5118.

Comments Due: 5 p.m. ET 6/28/17.

Docket Numbers: ER10-2124-016.

Applicants: Spring Canyon Energy LLC.

Description: Second Supplement to December 23, 2016 Triennial Report of Spring Canyon Energy LLC.

Filed Date: 6/7/17.

Accession Number: 20170607-5086.

Comments Due: 5 p.m. ET 6/28/17.

Docket Numbers: ER10-2135-012.

Applicants: Spindle Hill Energy LLC.

Description: Second Supplement to December 23, 2016 Triennial Report of Spindle Hill Energy LLC.

Filed Date: 6/7/17.

Accession Number: 20170607-5084.

Comments Due: 5 p.m. ET 6/28/17.

Docket Numbers: ER16-1720-002.

Applicants: Invenergy Energy Management LLC.

Description: Third Supplement to December 23, 2016 Triennial Report for the Northwest Region of Invenergy Energy Management LLC.

Filed Date: 6/7/17.

Accession Number: 20170607-5087.

Comments Due: 5 p.m. ET 6/28/17.

Docket Numbers: ER17-1770-000.

Applicants: PJM Interconnection, L.L.C.

Description: Tariff Cancellation: Notice of Cancellation of 1st Revised Service Agreement No. 4633, Queue #AB1-026 to be effective 5/24/2017.

Filed Date: 6/7/17.

Accession Number: 20170607-5074.

Comments Due: 5 p.m. ET 6/28/17.

Take notice that the Commission received the following PURPA 210(m)(3) filings:

Docket Numbers: QM17-4-000.

Applicants: Big Rivers Electric Corporation.

Description: Big Rivers Electric Corporation's Application to Terminate Purchase Obligation for QFs Greater Than 20 MW.

Filed Date: 6/7/17.

Accession Number: 20170607-5104.

Comments Due: 5 p.m. ET 7/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2017.
Kimberly D. Bose,
Secretary.

[FR Doc. 2017-12223 Filed 6-12-17; 8:45 am]

BILLING CODE 6717-01-P